NATIONAL FOUNDATION ON THE ARTS AND THE HUMANITIES

National Endowment for the Arts

Subject 30-Day Notice for the “Regional and State Arts Agency ARP Funding Survey”; Proposed Collection; Comment Request

AGENCY: National Endowment for the Arts.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed information collection for the Regional and State Arts Agency American Rescue Plan (ARP) Funding Survey. Copies of the ICR, with applicable supporting documentation, may be obtained by vising www.Reginfo.gov.

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The NEA is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: Regional and State Arts Agency ARP Funding Survey.

OMB number: 3135-0144.

Frequency: One-time web survey.

Affected public: States arts agencies and regional arts organizations staff members.

Estimated number of respondents: 62.

Total burden hours: 279 hours (62 responses, average 4.5 hours).

Total annualized capital/startup Costs: $0.

Total annual costs (operating/maintaining systems or purchasing services): $25,000.

Description

The planned data collection is a new information collection request, and the data to be collected are not available elsewhere unless obtained through this information collection. The web-based survey is planned to be administered once during winter 2023, contingent upon OMB approval. Knowledge gained through this information collection will enable the NEA to collect information on emergency relief funding provided by the American Rescue Plan (ARP) to state and regional subgrantees from the NEA. Currently, the NEA does not collect any information about the benefits of ARP funding awarded to states and regions.

The NEA is compelled by Congress to obligate 40 percent of its program budget to state arts agencies and regional arts organizations through Partnership Agreements (20 U.S.C. 954(g)). In turn, state arts agencies and regional arts organizations use these funds to support state and regional grantmaking and other programming, “developing projects and productions in the arts in such a manner as will furnish adequate programs, facilities, and services in the arts to all the people and communities in each of the several States” (20 U.S.C. 954. (g)(1)). ARP funds were administered to state arts agencies and regional art organizations via amendments to FY 2021 Partnership Agreements.

For regular Partnership Agreements, states and regional jurisdictions are required to annually report subgrantee data to the NEA via Final Descriptive Reports (OMB Control Number 3135-0140). However, Final Descriptive Reports do not request data related to jobs and infrastructure investments, which were the primary purpose of ARP funds to state arts agencies and regional arts organizations. In an effort to understand the benefits and outcomes of emergency relief funds going to the 56 states and jurisdictions, and six regions, the NEA is partnering with National Assembly of State Arts Agencies (NASAA) to collect data on the how subgrantees used ARP funds.

The Regional and State Arts Agency ARP Funding Survey is modeled after the Coronavirus Aid, Relief, and Economic Security Act (CARES Act) Funding Survey approved by OMB under this OMB Control Number (see ICR Ref. No. 202105-3135-001) and administered by the NEA in partnership with NASAA in 2020. The two surveys are identical with the exception that programmatic information, like grant program name and description, has been updated in the Regional and State Arts Agency ARP Funding Survey to include ARP, not CARES Act information. The intent of both surveys is to assess how federal Covid-19 relief funding from the NEA supported the continuation or creation of jobs and investment in infrastructure for state and regional subgrantees. Administering the survey will allow the NEA to again report on the outcomes of the relief funds that were distributed to states arts agencies and regional arts organizations.

The NEA's Office of Research & Analysis decided to survey state arts agencies and regional arts organizations because it would fill a gap in knowledge of the 40 percent of ARP funding allocated to states and regions. The questions in the survey will capture the jobs subgrantees were able to maintain or create, and the amount invested in infrastructure, as a result of ARP emergency relief. The survey will also provide an opportunity for state arts agencies and regional arts organizations to share additional qualitative or quantitative subgrantee data related to ARP funding they collected. The information will allow the NEA to examine the outcomes of ARP funds on subgrantees of state arts agencies and regional arts organizations to understand how these funds were used to support arts organizations and benefit the public.

NASAA will report the survey data to the public in the aggregate and include an analysis of subgrantee data along with direct grantee data to understand and track outcomes of ARP funding. The primary indicators will be the number of jobs created or maintained by grantees and subgrantees (full-time and part-time), and the infrastructure supported with ARP funds.

Dated: August 16, 2022.
Meghan Jugder,
Support Services Specialist, Office of Administrative Services & Contracts, National Endowment for the Arts.

[FR Doc. 2022-17984 Filed 8-19-22; 8:45 am]

BILLING CODE P